DEPARTMENT OF HEALTH AND HUMAN SERVICES

Centers for Disease Control and Prevention

Notice of Award of a Single-Source Cooperative Agreement To Fund Ghana Health Service

AGENCY: Centers for Disease Control and Prevention (CDC), Department of Health and Human Services (HHS).

ACTION: Notice.

SUMMARY: The Centers for Disease Control and Prevention (CDC), located within the Department of Health and Human Services (HHS), announces the award of approximately $800,000, for Year 1 of funding to Ghana Health Service (GHS). Funding amounts for years 2-5 will be set at continuation. The award will build laboratory and Strategic Information (SI) capacity to improve the provision of HIV testing, treatment, and retention in line with HIV epidemic control and 95-95-95 targets (95% of HIV-positive individuals knowing their status, 95% of those receiving ART [Antiretroviral therapy], and 95% of those achieving viral suppression).

DATES: The period for this award will be September 30, 2022 through September 29, 2027.

FOR FURTHER INFORMATION CONTACT: Trong Ao, Center for Global Health, Centers for Disease Control and Prevention, CDC Ghana Office, U.S. Embassy, 24 Fourth Circular Road Cantonments, Accra, Ghana, Telephone: 800-232-6348, email: tfa8@cdc.gov.

SUPPLEMENTARY INFORMATION: The single-source award will support the National AIDS Control Program of the GHS in the Ministry of Health to implement strategic information and laboratory strengthening activities in Ghana. GHS is a public service body established in 1996 under Act 525 as required by the 1992 Constitution of Ghana. GHS is in a unique position to conduct this work, as it is responsible for the implementation of national health policies under the control of Ministry of Health through the GHS Governing Council. GHS has the Mandate to provide and manage comprehensive and accessible health services with special emphasis on primary health care at regional, district, and sub-district levels.

Summary of the Award

Recipient: Ghana Health Service.

Purpose of the Award: The purpose of this award is to build laboratory and SI capacity to improve the provision of HIV testing, treatment, and retention in line with HIV epidemic control and 95-95-95 targets. This award strives to build and strengthen laboratories with the appropriate diagnostic technologies, trained and skilled staff, and systems that can provide efficient services. It also strengthens SI systems, data quality assurance, and the capacity of staff responsible for managing facility-based, survey, and surveillance data operating at national and subnational levels.

Amount of Award: The approximate year 1 funding amount will be $800,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: February 1, 2022.
Terrance Perry,
Chief Grants Management Officer, Centers for Disease Control and Prevention.

[FR Doc. 2022-02410 Filed 2-3-22; 8:45 am]

BILLING CODE 4163-18-P